DEPARTMENT OF HOMELAND SECURITY

Federal Emergency Management Agency

[Docket ID FEMA-2021-0002; Internal Agency Docket No. FEMA-B-2135]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 8, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2135, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Mendocino County, California and Incorporated Areas
Project: 16-09-2624S Preliminary Date: January 14, 2021
City of Willits | City Hall, 111 East Commercial Street, Willits, CA 95490.
Unincorporated Areas of Mendocino County | Mendocino County Planning and Building Services Department, 860 North Bush Street, Ukiah, CA 95482.
Plymouth County, Iowa and Incorporated Areas
Project: 18-07-0013S Preliminary Date: November 23, 2020
City of Akron | City Hall, 220 Reed Street, Akron, IA 51001.
City of Brunsville | City Hall, 310 Oak Street, Brunsville, IA 51008.
City of Hinton | City Hall, 205 West Main Street, Hinton, IA 51024.
City of Kingsley | City Hall, 222 Main Street, Kingsley, IA 51028.
City of Le Mars | City Hall, 40 Central Avenue Southeast, Le Mars, IA 51031.
City of Merrill | City Hall, 608 Main Street, Merrill, IA 51038.
City of Oyens | City Hall, 230 Main Street, Oyens, IA 51045.
City of Remsen | City Hall, 8 West 2nd Street, Remsen, IA 51050.
City of Struble | City Hall, 210 William Street, Struble, IA 51031.
City of Westfield | City Hall, 223 Union Street, Westfield, IA 51062.
Unincorporated Areas of Plymouth County | Plymouth County Annex Building, 214 3rd Avenue Southeast, Le Mars, IA 51031.
Morris County, Kansas and Incorporated Areas
Project: 20-07-0040S Preliminary Date: December 4, 2020
City of Council Grove | City Hall, 205 North Union Street, Council Grove, KS 66846.
City of Dunlap | City Hall, 526 Commercial Street, Dunlap, KS 66848.
City of Parkerville | Morris County Courthouse, 501 West Main Street, Council Grove, KS 66846.
Unincorporated Areas of Morris County | Morris County Courthouse, 501 West Main Street, Council Grove, KS 66846.
Lake of the Woods County, Minnesota and Incorporated Areas
Project: 17-05-1796S Preliminary Date: May 29, 2020
City of Baudette | City Hall, 106 West Main Street, Baudette, MN 56623.
City of Williams | City Hall, 250 Main Street, Williams, MN 55686.
Red Lake Band of Chippewa Tribe | Red Lake Nation Government Center, 15484 Migizi Drive, Red Lake, MN 56671.
Unincorporated Areas of Lake of the Woods County | Lake of the Woods County Government Center, 206 8th Avenue Southeast, Baudette, MN 56623.
Olmsted County, Minnesota and Incorporated Areas
Project: 12-05-2135S Preliminary Date: May 29, 2020
Unincorporated Areas of Olmsted County | Olmsted County Planning, Land Use, and Zoning Department, 2122 Campus Drive Southeast, Suite 100, Rochester, MN 55904.
Montgomery County, Ohio and Incorporated Areas
Project: 14-05-4202S Preliminary Date: November 30, 2020
City of Centerville | Municipal Government Center, 100 West Spring Valley Road, Centerville, OH 45458.
City of Dayton | Building Inspection Department, 371 West Second Street, Dayton, OH 45402.
City of Kettering | Kettering Government Center, 3600 Shroyer Road, Kettering, OH 45429.
Unincorporated Areas of Montgomery County | Montgomery County Administration Building, 451 West Third Street, Dayton, OH 45422.

[FR Doc. 2021-12129 Filed 6-9-21; 8:45 am]

BILLING CODE 9110-12-P